ENVIRONMENTAL PROTECTION AGENCY

40 CFR Part 300

[EPA-HQ-SFUND-1987-0002; FRL-8172-7]

National Oil and Hazardous Substances Pollution Contingency Plan; National Priorities List

AGENCY: Environmental Protection Agency (EPA).

ACTION: Notice of intent for partial deletion of the Rocky Mountain Arsenal National Priorities List Site from the National Priorities List; extension of public comment period.

SUMMARY: The Environmental Protection Agency (EPA) Region 8 announced its intent to delete the Internal Parcel, encompassing 7,399 acres of the Rocky Mountain Arsenal National Priorities List Site (RMA/NPL Site) On-Post Operable Unit (OU), from the National Priorities List (NPL) on April 26, 2006. The 30-day public comment period is scheduled to end on May 26, 2006. EPA has received a request to extend the public comment period. In response, EPA is extending the public comment period for an additional 30 days concluding on June 26, 2006.

The NPL constitutes Appendix B of 40 CFR part 300 which is the National Oil and Hazardous Substances Pollution Contingency Plan (NCP), which EPA promulgated pursuant to section 105 of the Comprehensive Environmental Response, Compensation, and Liability Act (CERCLA).

EPA bases its proposal to delete the Internal Parcel of the RMA/NPL Site on the determination by EPA and the State of Colorado, through the Colorado Department of Public Health and Environment (CDPHE), that all appropriate actions under CERCLA have been implemented to protect human health, welfare, and the environment and that no further response action by responsible parties is appropriate.

This partial deletion pertains to the surface media (soil, surface water, sediment) and structures within the Internal Parcel of the On-Post OU of the RMA/NPL Site as well as the groundwater below the Internal Parcel that is east of E Street, with the exception of a small area of contaminated groundwater located in the northwest corner of Section 6. The rest of the On-Post OU, including groundwater below RMA that is west of E Street, and the Off-Post OU will remain on the NPL and response activities will continue at those OUs.

DATES: Comments must be received on or before June 26, 2006.

ADDRESSES: Submit your comments, identified by Docket ID No. EPA-HQ-SFUND-1987-0002, by one of the following methods:

• http://www.regulations.gov: Follow the on-line instruction for submitting comments.

• E-mail: chergo.jennifer@epa.gov.

• Fax: 303-312-6961.

• Mail: Ms. Jennifer Chergo, Community Involvement Coordinator (8OC), U.S. EPA, Region 8, 999 18th Street, Suite 300, Denver, Colorado, 80202-2466.

• Hand Delivery: 999 18th Street, Suite 300, Denver, Colorado, 80202-2466. Such deliveries are only accepted during the Docket's normal hours of operation, and special arrangements should be made for deliveries of boxed information.

Instructions: Direct your comments to Docket ID No. EPA-HQ-SFUND-1987-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA's Region 8 Superfund Records Center, 999 18th Street, Denver, Colorado 80202-2466 and the Joint Administrative Records Document Facility, Rocky Mountain Arsenal, Building 129, Room 2024, Commerce City, Colorado 80022-1748. The Region 8 Docket Facility is open from 8 a.m. to 4 p.m. by appointment, Monday through Friday, excluding legal holidays. The EPA Docket telephone number is 303-312-6473. The RMA's Docket Facility is open from 12 p.m. to 4 p.m., Monday through Friday, excluding legal holidays, or by appointment. The RMA Docket telephone number is 303-289-0362.

FOR FURTHER INFORMATION CONTACT: Ms. Jennifer Chergo, Community Involvement Coordinator (8OC), U.S. Environmental Protection Agency, Region 8, 999 18th Street, Suite 300, Denver Colorado, 80202-2466; telephone number: 1-800-227-8917 or (303) 312-6601; fax number: 303-312-6961; e-mail address: chergo.jennifer@epa.gov.

SUPPLEMENTARY INFORMATION:

Table of Contents

I. Introduction

II. NPL Deletion Criteria

III. Deletion Procedures

IV. Basis for Intended Partial Site Deletion

I. Introduction

The Environmental Protection Agency (EPA) Region 8 announces a thirty day extension of the public comment period for the proposed deletion of the Internal Parcel of the Rocky Mountain Arsenal National Priorities List (RMA/NPL) Site, Commerce City, Colorado, from the National Priorities List (NPL) and requests comment on these proposed actions. The NPL constitutes Appendix B of the National Oil and Hazardous Substances Pollution Contingency Plan (NCP), 40 CFR part 300, which EPA promulgated pursuant to Section 105 of the Comprehensive Environmental Response, Compensation and Liability Act (CERCLA), 42 U.S.C. 9605. EPA identifies sites that appear to present a significant risk to public health or the environment and maintains the NPL as the list of those sites. Sites on the NPL may be the subject of remedial actions financed by the Hazardous Substance Superfund (Fund). The partial deletion from the RMA/NPL Site is proposed in accordance with 40 CFR 300.425(e) and Notice of Policy Change: Partial Deletion of Sites Listed on the National Priorities List (60 FR 55466 (Nov. 1, 1995)). As described in 40 CFR 300.425(e)(3), portions of a site deleted from the NPL remain eligible for further remedial actions if warranted by future conditions.

EPA will accept comments concerning its intent for partial deletion of the RMA/NPL Site until June 26, 2006.

Section II of this notice explains the criteria for deleting sites from the NPL. Section III discusses the procedures that EPA is using for this proposed partial deletion. Section IV discusses the Internal Parcel and explains how it meets the deletion criteria.

II. NPL Deletion Criteria

The NCP establishes the criteria that EPA uses to delete sites from the NPL. In accordance with 40 CFR 300.425(e), sites may be deleted from the NPL where no further response is appropriate to protect public health or the environment. In making such a determination pursuant to section 300.425(e), EPA will consider, in consultation with the State, whether any of the following criteria have been met:

Section 300.425(e)(1)(i). Responsible parties or other persons have implemented all appropriate response actions required;

Section 300.425(e)(1)(ii). All appropriate Fund-financed response under CERCLA has been implemented, and no further response action by responsible parties is appropriate; or

Section 300.425(e)(1)(iii). The remedial investigation has shown that the release poses no significant threat to public health or the environment and, therefore, taking of remedial measures is not appropriate.

A partial deletion of a site from the NPL does not affect or impede EPA's ability to conduct CERCLA response activities for portions not deleted from the NPL. In addition, deletion of a portion of a site from the NPL does not affect the liability of responsible parties or impede agency efforts to recover costs associated with response efforts. The U.S. Army and Shell Oil Company will be responsible for all future remedial actions required at the areas deleted if future site conditions warrant such actions.

III. Deletion Procedures

Upon determination that at least one of the criteria described in Section 300.425(e) of the NCP has been met, EPA may formally begin deletion procedures. The following procedures were used for the proposed deletion of the Internal Parcel from the RMA/NPL Site:

(1) The Army has requested the partial deletion and prepared the relevant documents.

(2) The State of Colorado, through the CDPHE, concurred with publication of the notice of intent for partial deletion.

(3) Concurrent with the national Notice of Intent for Partial Deletion, a local notice was published in a newspaper of record and distributed to appropriate Federal, State, and local officials, and other interested parties. These notices announced a thirty day public comment period, ending May 26, 2006, based upon publication of the notice in the Federal Register and a local newspaper of record.

(4) Concurrent with this national Notice of the Public Comment Extension, a local notice has been published in a newspaper of record and has been distributed to appropriate Federal, State, and local officials, and other interested parties. These notices announce a thirty day extension of the public comment period, ending June 26, 2006.

(5) EPA has made all relevant documents available at the information repositories listed previously for public inspection and copying.

Upon completion of the thirty calendar day extension of the public comment period, EPA Region 8 will evaluate each significant comment and any significant new data received before issuing a final decision concerning the proposed partial deletion. EPA will prepare a responsiveness summary for each significant comment and any significant new data received during the public comment period and will address concerns presented in such comments and data. The responsiveness summary will be made available to the public at the EPA Region 8 office and the information repositories listed above and will be included in the final deletion package. Members of the public are encouraged to contact EPA Region 8 to obtain a copy of the responsiveness summaries. If, after review of all such comments and data, EPA determines that the partial deletion from the NPL is appropriate, EPA will publish a final notice of partial deletion in the Federal Register. Deletion of the Internal Parcel of the RMA/NPL Site does not actually occur until a final notice of partial deletion is published in the Federal Register. A copy of the final partial deletion package will be placed at the EPA Region 8 office and the information repositories listed above after the final document has been published in the Federal Register.

IV. Basis for Intended Partial Site Deletion

This notice announces a thirty day extension of the public comment period for the proposed partial deletion from the RMA/NPL Site. EPA Region 8 announced its intent to delete the Internal Parcel of the RMA/NPL Site from the NPL on April 26, 2006. The original basis for deleting the Internal Parcel from the RMA/NPL Site has not changed. The Federal Register notice for the Internal Parcel (71 FR 24627, Apr. 26, 2006) provides a thorough discussion of the basis for the intended partial deletion.

Dated: May 15, 2006.
Robert E. Roberts,
Regional Administrator, Region 8.

[FR Doc. E6-7664 Filed 5-23-06; 8:45 am]

BILLING CODE 6560-50-P